DEPARTMENT OF THE INTERIOR

National Park Service

White-tailed Deer Management Plan/Environmental Impact Statement, Valley Forge National Historical Park, King of Prussia, PA

AGENCY: National Park Service, Interior.

ACTION: Notice of intent to prepare a White-tailed Deer Management Plan/Environmental Impact Statement, Valley Forge National Historical Park, King of Prussia, Pennsylvania.

SUMMARY: Under the provisions of the National Environmental Policy Act of 1969, the National Park Service (NPS) will prepare a White-tailed Deer Management Plan/Environmental Impact Statement (EIS) for Valley Forge National Historical Park (NHP), King of Prussia, Pennsylvania. The purpose of this plan and EIS is to support long-term protection, preservation, and restoration of native vegetation and other natural resources within the park. A scoping brochure will be prepared that details the issues identified to date, and possible alternatives to be considered. Brochures may be obtained from Kristina Heister, Natural Resources Manager, Valley Forge NHP or from the Valley Forge NHP Web site (http://www.nps.gov/vafo).

DATES: The NPS will accept comments from the public regarding this Notice of Intent until October 10, 2006. In addition, several public scoping meetings will be conducted in the Valley Forge area beginning in Fall 2006. Please check local newspapers, the park Web site or contact Kristina Heister.

ADDRESSES: Information will be available for public review and comment at the Valley Forge NHP library by appointment (Contact dona_mcdermott@nps.gov), local public libraries, park Web site at http://www.nps.gov/vafo, and the Planning, Environment and Public Comment (PEPC) Web site at http://parkplanning.nps.gov.

FOR FURTHER INFORMATION CONTACT: Kristina Heister, Natural Resources Manager, Valley Forge NHP, 1400 North Outer Line Drive, King of Prussia, Pennsylvania 19406, or kristina_heister@nps.gov.

SUPPLEMENTARY INFORMATION: A major purpose of Valley Forge National Historical Park is preservation of the “cultural and natural resources that embody and commemorate the Valley Forge experience and the American Revolution.” The purpose of this plan and environmental impact statement is to support long-term protection, preservation, and restoration of native vegetation and other natural resources within the park. A deer management plan is needed at this time to address browsing by an increasing number of deer over the past two decades and resulting changes in the species composition, abundance, and distribution of native plant communities and associated wildlife. The plan will also provide opportunities for coordinating management actions with other jurisdictional entities. The plan will develop an informed, scientifically-based approach to deer management that will maintain a white-tailed deer population within the park while ensuring the natural resources that support the purposes of Valley Forge National Historical Park remain in good condition.

A set of objectives further describing the purpose of the plan will be included in the public scoping brochure. A list of preliminary alternatives that will be considered to meet the purpose and need, including continuation of current management (no-action alternative) also will be provided.

Persons commenting on the purpose, need, objectives, preliminary alternatives, or any other issues associated with the plan, may submit comments by any one of several methods (see below). The dates and times of public scoping meetings will be advertised a minimum of 15 days in advance. Notice of the meetings will be posted in local newspapers, libraries, on the park Web site and the Planning, Environment and Public Comment (PEPC) Web site. In addition, a public scoping brochure will be mailed to interested parties.

Comments may be mailed to Natural Resource Management, Valley Forge NHP, 1400 North Outer Line Drive, King of Prussia, Pennsylvania 19406 or sent via the Internet at http://parkplanning.nps.gov. Please submit Internet comments as a text file avoiding the use of special characters and any form of encryption. Please put “Deer Management” in the subject line and include your name and return address in your Internet message. If persons commenting do not receive a receipt confirmation from the system, please contact Kristina Heister.

Our practice is to make comments, including names, home addresses, home phone numbers, and e-mail addresses of respondents, available for public review. Individual respondents may request that we withhold their names and/or home addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives of or officials of organizations or businesses, available for public inspection in their entirety.

Dated: August 30, 2006.
Mary Bomar,
Regional Director, Northeast Region.

[FR Doc. E6-14783 Filed 9-6-06; 8:45 am]

BILLING CODE 4310-DJ-P